DEPARTMENT OF LABOR

Employment and Training Administration

[TA-W-51,630]

J.C. Viramontes, Inc., D/B/A International Garment Processors, El Paso, TX; Notice of Termination of Investigation

Pursuant to section 221 of the Trade Act of 1974, as amended, an investigation was initiated on April 29, 2003, in response to a worker petition filed by a company official on behalf of workers at J.C. Viramontes, Inc., d/b/a International Garment Processors, El Paso, Texas.

The petitioning group of workers is covered by an active certification issued on June 29, 2001 and which remains in effect (TA-W-39,196). Consequently, further investigation in this case would serve no purpose, and the investigation has been terminated.

Signed at Washington, DC, this 29th day of April, 2003.
Richard Church,
Certifying Officer, Division of Trade Adjustment Assistance.

[FR Doc. 03-11561 Filed 5-8-03; 8:45 am]

BILLING CODE 4510-30-P